DEPARTMENT OF TRANSPORTATION

Federal Aviation Administration

14 CFR Part 71

[Docket No. FAA-2006-25038; Airspace Docket No. 06-ANM-4]

Revision of Class E Airspace; Sheridan, WY

AGENCY: Federal Aviation Administration (FAA), DOT.

ACTION: Final rule.

SUMMARY: This action will revise the Class E airspace at Sheridan, WY. Additional controlled airspace is necessary to accommodate aircraft executing a new Area Navigation (RNAV) Global Positioning System (GPS) approach procedure at Sheridan County Airport. This action will improve the safety of Instrument Flight Rules (IFR) aircraft executing this new procedure at Sheridan County Airport, Sheridan, WY.

DATES: Effective Date: 0901 UTC, March 15, 2007. The Director of the Federal Register approves this incorporation by reference action under 1 CFR part 51, subject to the annual revision of FAA Order 7400.9 and publication of conforming amendments.

FOR FURTHER INFORMATION CONTACT: Ed Haeseker, Federal Aviation Administration, Western En Route and Oceanic Area Office, Airspace Branch, 1601 Lind Avenue, SW., Renton, WA 98055-4056; telephone (425) 227-2527.

SUPPLEMENTARY INFORMATION:

History

On August 25, 2006, the FAA published in the Federal Register a notice of proposed rulemaking to revise Class E airspace at Sheridan, WY, (71 FR 50376). This action would improve the safety of Instrument Flight Rules (IFR) aircraft executing this new RNAV GPS approach procedure at Sheridan County Airport, Sheridan, WY. Interested parties were invited to participate in this rulemaking effort by submitting written comments on the proposal to the FAA. No comments were received. The NPRM described the Wenz NDB bearings “to” the facility instead of “from” the facility, which is standard practice. This rule makes an editorial change to describe the bearings “from” the NDB. Except for this editorial change, this rule is the same as proposed in the NPRM.

Class E airspace designations are published in paragraph 6002 and 6005 of FAA Order 7400.9P dated September 1, 2006, and effective September 15, 2006, which is incorporated by reference in 14 CFR part 71.1. The Class E airspace designations listed in this document will be published subsequently in that Order.

The Rule

This action amends Title 14 Code of Federal Regulations (14 CFR) part 71 by revising Class E airspace at Sheridan, WY. Additional controlled airspace is necessary to accommodate IFR aircraft executing a new RNAV (GPS) approach procedure at Sheridan County Airport, Sheridan, WY.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR part 71.1 of the Federal Aviation Administration Order 7400.9P, Airspace Designations and Reporting Points, dated September 1, 2006, and effective September 15, 2006, is amended as follows:

Paragraph 6002 Class E airspace areas extending upward from the surface of the earth.

* * * * *

ANM WY E2 Sheridan WY [Revised]

Sheridan County Airport, WY

(Lat. 44°46′09″ N., long. 106°58′49″ W.)

Sheridan VORTAC

(Lat. 44°50′32″ N., long. 107°03′40″ W.)

That airspace extending upward from the surface within a 4.5-mile radius of the Sheridan County Airport, and within 4.5 miles each side of the 157° bearing from the airport, extending from the 4.5-mile radius to 17.6 miles southeast of the airport, and within 3.5 miles each side of the Sheridan VORTAC 312°, 327° radials extending from the 4.5-mile radius to 10.1 miles northwest of the VORTAC, and 4.0 miles each side of the 336° bearing from the Sheridan Airport extending from the 4.5-mile radius to 15.4 miles northwest of the Airport, and within 3.5 miles each side of the Sheridan VORTAC 140° radial extending from the 4.5-mile radius to 21.4 miles southeast of the VORTAC.

* * * * *

Paragraph 6005 Class E airspace areas extending upward from 700 feet or more above the surface of the earth.

* * * * *

ANM WY E5 Sheridan WY [Revised]

Sheridan County Airport, WY

(Lat. 44°46′09″ N., long. 106°58′49″ W.)

Gillette VOR/DME

(Lat. 44°20′52″ N., long. 105°32′37″ W.)

Crazy Woman VOR/DME

(Lat. 43°59′59″ N., long. 106°26′09″ W.)

That airspace extending upward from 700 feet above the surface within a 7.0-mile radius of Sheridan County Airport; that airspace extending upward from 1,200 feet above the surface beginning at lat. 45°15′00″ N., long. 107°30′00″ W.; to lat. 45°15′00″ N., long. 107°00′00″ W.; to lat. 45°00′00″ N., long. 106°40′00″ W.; to Gillette VOR/DME; to Crazy Woman VOR/DME; to lat. 44°00′00″ N., long. 106°45′00″ W.; to lat. 44°30′00″ N., long. 107°00′00″ W.; to lat. 45°00′00″ N., long. 107°30′00″ W.; to point of beginning.

* * * * *

Issued in Seattle, Washington, on November 13, 2006.
Clark Desing,
Manager, System Support, Western Service Area.

[FR Doc. E6-20489 Filed 12-4-06; 8:45 am]

BILLING CODE 4910-13-P